GENERAL SERVICES ADMINISTRATION

[Notice-CECANF-2015-05; Docket No. 2015-0005; Sequence No. 5]

Commission To Eliminate Child Abuse and Neglect Fatalities; Announcement of Meeting; Correction

AGENCY: Commission To Eliminate Child Abuse and Neglect Fatalities, General Services Administration.

ACTION: Meeting notice; correction.

SUMMARY: The Commission to Eliminate Child Abuse and Neglect Fatalities (CECANF) published a document in the Federal Register of June 22, 2015 concerning the request for comments on a meeting open to the public on Wednesday, July 15, 2015 and Thursday, July 16, 2015 in Madison, Wisconsin. The document contains an incorrect address.

DATES: The meeting will be held on Wednesday, July 15, 2015, from 8:00 a.m. to 5:15 p.m. and Thursday, July 16, 2015, from 8:00 a.m. to 12:30 p.m. Central Daylight Time (CDT). Comments regarding this meeting should be received by Monday, July 13, 2015, for consideration prior to the meeting.

FOR FURTHER INFORMATION CONTACT: Visit the CECANF Web site at https://eliminatechildabusefatalities.sites.usa.gov/. or contact Patricia Brincefield, Communications Director, at 202-818-9596, U.S. General Services Administration, 1800 F Street NW., Room 7003D, Washington DC 20405, Attention: Tom Hodnett (CD) for CECANF.

Correction

In the Federal Register of June 22, 2015, in FR Vol. 80, No. 119, on page 35649, in the third column, on lines 13-14, correct the ADDRESSES caption to read:

ADDRESSES: CECANF will convene its meeting at the Madison Marriott West, 1313 John Q. Hammons Drive, Middleton, Wisconsin. This site is accessible to individuals with disabilities. The meeting also will be made available via teleconference and/or webinar.

Dated: June 30, 2015.
Amy Templeman,
Acting Executive Director.

[FR Doc. 2015-16698 Filed 7-7-15; 8:45 am]

BILLING CODE 6820-34-P